NATIONAL SCIENCE FOUNDATION

Sunshine Act Meetings

The National Science Board's (NSB) Committee on External Engagement hereby gives notice of the scheduling of five videoconference meetings for the transaction of National Science Board business pursuant to the National Science Foundation Act and the Government in the Sunshine Act.

TIME AND DATE:

Monday, August 29, 2022, from 5:00-5:30 p.m. EDT

Monday, September 26, 2022, from 5:00-5:30 p.m. EDT

Monday, October 24, 2022, from 5:00-5:30 p.m. EDT

Monday, November 28, 2022, from 5:00-5:30 p.m. EDT

Monday, December 12, 2022, from 5:30-6:00 p.m. EDT

PLACE: These meetings will be held by videoconference through the National Science Foundation.

STATUS: Open.

MATTERS TO BE CONSIDERED: The agendas of all the videoconferences are: Committee Chair's remarks; discussion and planning of NSB engagement initiatives; discussion of external panels for upcoming NSB meetings; and discussion of NSB's Honorary Awards process.

CONTACT PERSON FOR MORE INFORMATION: Point of contact for this meeting is: Chris Blair, cblair@nsf.gov, 703/292-7000. To listen to any of the videoconferences, members of the public must send an email to nationalsciencebrd@nsf.gov at least 24 hours prior to the teleconference. The National Science Board Office will send requesters a toll-free dial-in number. Meeting information and updates may be found at the National Science Board website www.nsf.gov/nsb.

Chris Blair,
Executive Assistant to the National Science Board Office.

[FR Doc. 2022-18389 Filed 8-23-22; 11:15 am]

BILLING CODE 7555-01-P